CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paperwork Reduction Act of 1995, Public Law 104-13, (44 U.S.C. Chapter 35). Copies of this ICR, with applicable supporting documentation, may be obtained by calling the Corporation for National and Community Service, William L. Hudson, at (202) 606-5000, extension 265, (WHudson@cns.gov); T.D.D. at (202) 565-2799 between the hours of 9 a.m. and 4 p.m. Eastern Standard Time, Monday through Friday.

Comments should be sent to the Office of Information and Regulatory Affairs, Attn: Ms. Brenda Aguilar, OMB Desk Officer for the Corporation for National and Community Service, Office of Management and Budget, Room 10235, Washington, DC 20503, (202) 395-7316, within 30 days from the date of publication in this Federal Register.

The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Description

In his State of the Union address, President Bush called on all Americans to perform some form of service to the nation for the equivalent of two years of their life. Americans serve their country in extraordinary and countless ways. Most of our Nation's civic work is being done without the aid of the Federal Government, but we believe the Federal Government can work to enhance the opportunities for Americans to serve their neighbors and their Nation. The Administration proposes to create and expand activities that will enhance homeland security, provide additional community-based service and volunteer opportunities, and assist people around the world. In January, the President announced the creation of the USA Freedom Corps which has three major components: A newly created Citizen Corps to engage citizens in homeland security; an improved and enhanced AmeriCorps and Senior Corps, programs of the Corporation; and a strengthened Peace Corps.

Because of President Bush's announcement on March 12, 2002, which informed the public of the availability of this record of service, the Corporation, on March 6, 2002, submitted a request for emergency processing and approval by OMB of this record of service because it could not reasonably comply with the normal clearance procedures under the Paperwork Reduction Act. OMB approved this request on March 12, 2002, for a period of six months to expire on September 30, 2002, and assigned Control Number 3045-0077 to this information collection activity. The link to this record of service, which is now available for use, and which serves as a means for the public to record their record of service may be found on the following Internet address: http://www.usafreedomcorps.gov. Use of this tracking tool is 100 percent electronic in that users will establish a user ID and password that automatically creates a “record of service” account which is only accessible to that particular user. This record of service account can be updated only by the user who established the account. In addition, those users who create a record of service account can, by checking various blocks, elect to receive information about USA Freedom Corps and other national and community service volunteer activities.

Type of Review: Renewal.

Agency: Corporation for National and Community Service.

Title: Volunteer Service Hour Tracking Tool.

OMB Number: 3045-0077.

Agency Number: None.

Affected Public: Citizens of the United States.

Total Respondents: 10,000.

Frequency: On occasion.

Average Time Per Response: 3 minutes.

Estimated Total Burden Hours: 500 hours.

Total Burden Cost (capital/startup): None.

Total Burden Cost (operating/maintenance): None.

Dated: September 6, 2002.
Christine Benero,
Director of Public Affairs and Public Liaison.

[FR Doc. 02-23143 Filed 9-11-02; 8:45 am]

BILLING CODE 6050-$$-P